DEPARTMENT OF TRANSPORTATION

Federal Aviation Administration

14 CFR Part 71

[Docket No. FAA-2012-0456; Airspace Docket No. 12-AEA-9]

Amendment of Class D and Class E Airspace; Lakehurst, NJ

AGENCY: Federal Aviation Administration (FAA), DOT.

ACTION: Final rule, technical amendment.

SUMMARY: This action changes the name of the airport associated with the Class D and Class E airspace at Lakehurst, NJ. The airport's name is being changed to Lakehurst Naval Support Activity/Maxfield Field (Joint Base McGuire-Dix-Lakehurst). The FAAs Aeronautical Products office requested the change to reflect the current airport name.

DATES: Effective date 0901 UTC, September 20, 2012. The Director of the Federal Register approves this incorporation by reference action under Title 1, Code of Federal Regulations, part 51, subject to the annual revision of FAA Order 7400.9 and publication of conforming amendments.

FOR FURTHER INFORMATION CONTACT: John Fornito, Operations Support Group, Eastern Service Center, Federal Aviation Administration, P.O. Box 20636, Atlanta, Georgia 30320; telephone (404) 305-6364.

SUPPLEMENTARY INFORMATION:

The Rule

This amendment to Title 14, Code of Federal Regulations (14 CFR) part 71 changes the name of the airport associated with the Class D airspace and Class E airspace designated as an extension to a Class D airspace, at Lakehurst, NJ. The airport name is changed from Lakehurst Naval Air Experimental Center Airport/Maxfield Field to Lakehurst Naval Support Activity/Maxfield Field (Joint Base McGuire-Dix-Lakehurst) to be in concert with the FAAs aeronautical database. Accordingly, since this is an administrative change, and does not affect the boundaries, altitudes, or operating requirements of the airspace, notice and public procedures under 5 U.S.C. 553(b) are unnecessary.

The Class D airspace, and Class E airspace designations are published in Paragraph 5000 and 6004, respectively, of FAA Order 7400.9V, dated August 9, 2011, and effective September 15, 2011, which is incorporated by reference in 14 CFR 71.1. The Class D and Class E airspace designations listed in this document will be published subsequently in the Order.

The FAA has determined that this regulation only involves an established body of technical regulations for which frequent and routine amendments are necessary to keep them, operationally current, is non-controversial and unlikely to result in adverse or negative comments. It, therefore, (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A. Subpart I, Section 40103. Under that section, the FAA is charged with prescribing regulations to assign the use of airspace necessary to ensure the safety of aircraft and the efficient use of airspace. This regulation is within the scope of that authority as it amends controlled airspace for the Lakehurst, NJ, Class D and E airspace area.

Lists of Subjects in 14 CFR Part 71

Airspace, Incorporation by reference, Navigation (air).

Final Rule

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g); 40103, 40113, 40120; E.O. 10854, 24 FR 9565, 3 CFR, 1959-1963 Comp., p. 389.

§ 71.1 [Amended]

2. The incorporation by reference in 14 CFR 71.1 of Federal Aviation Administration Order 7400.9V, Airspace Designations and Reporting Points, dated August 9, 2011, effective September 15, 2011, is amended as follows:

Paragraph 5000 Class D airspace.

* * * * *

AEA NJ D Lakehurst, NJ [Amended]

Lakehurst Naval Support Activity/Maxfield Field, NJ (Joint Base McGuire-Dix-Lakehurst)

(Lat. 40°02′00″ N., long. 74°21′13″ W.)

That airspace extending upward from the surface to and including 2,600 feet MSL within a 4.2-mile radius of the Lakehurst Naval Support Activity/Maxfield Field (Joint Base McGuire-Dix-Lakehurst). This Class D airspace area is effective during the specific dates and times established in advance by a Notice to Airmen. The effective date and time will thereafter be continuously published in the Airport/Facility Directory.

Paragraph 6004 Class E airspace designated as an extension to a class D surface area.

* * * * *

AEA NJ E4 Lakehurst, NJ [Amended]

Lakehurst Naval Support Activity/Maxfield Field, NJ (Joint Base McGuire-Dix-Lakehurst)

(Lat. 40°02′00″ N., long. 74°21′13″ W.)

Lakehurst (Navy) NDB

(Lat. 40°02′41″ N., long. 74°20′09″ W.)

That airspace extending upward from the surface within 2.6 miles each side of the 050° bearing from the Lakehurst (Navy) NDB extending from the 4.2-mile radius of the Lakehurst Naval Support Activity/Maxfield Field (Joint Base McGuire-Dix-Lakehurst) to 7.4 miles northeast of the NDB. This Class E airspace area is effective during the specific dates and times established in advance by a Notice to Airmen. The effective date and time will thereafter be continuously published in the Airport/Facility Directory.

Issued in College Park, Georgia, on June 29, 2012.
Barry A. Knight,
Acting Manager, Operations Support Group, Eastern Service Center, Air Traffic Organization.

[FR Doc. 2012-16674 Filed 7-9-12; 8:45 am]

BILLING CODE 4910-13-P